DEPARTMENT OF THE INTERIOR

Geological Survey

[Account number: GX.12.LH00.0A000.UR]

Agency Information Collections Activities: Submitted for Office of Management and Budget (OMB) Review; Comment Request

AGENCY: United States Geological Survey (USGS), Interior.

ACTION: Notice of a proposed new information collection and request for comments.

SUMMARY: To comply with the Paperwork Reduction Act of 1995 (PRA), we are notifying the public that we have submitted to OMB a new information collection request (ICR) for approval of the paperwork requirements for the Study on Uranium and other trace metals in Private Bedrock Wells of south-eastern New Hampshire.

DATES: You must submit comments on or before January 30, 2012.

ADDRESSES: Please submit written comments on this information collection directly to the Office of Management and Budget (OMB) Office of Information and Regulatory Affairs, Attention: Desk Officer for the Department of the Interior via email to OIRA_DOCKET@omb.eop.gov or fax at (202) 395-5806; and identify your submission as 1028-NEW NHWELL. Please also submit a copy of your written comments to Shari Baloch, USGS Information Collection Clearance Officer, U.S. Geological Survey, 12201 Sunrise Valley Drive Reston, VA 20192 MS 807 (mail); (703) 648-7199 (fax); or smbaloch@usgs.gov (email). Please reference Information Collection 1028-NEW NHWELL in the subject line.

FOR FURTHER INFORMATION CONTACT: Sarah M. Flanagan, U.S. Geological Survey, 331 Commerce Way, Pembroke, New Hampshire 03275 (mail); at (603) 226-7811 (telephone); or sflanaga@usgs.gov (email). You may also find information on this collection at www.reginfo.gov.

SUPPLEMENTARY INFORMATION:

I. Abstract

The U.S. Geological Survey (USGS) is conducting the study with the assistance of the U.S. Environmental Protection Agency (USEPA) to (1) obtain information on water-quality issues that affect private well owners, (2) estimate the number of private wells containing raw-water concentrations of uranium and other trace metals (arsenic, iron, lead, and manganese) that are greater than the current drinking-water standards, and (3) assess the degree to which bedrock types can be associated with concentrations of uranium and other trace metals. This information will help guide future water-supply development and well-water testing. It will guide local health officials to areas of concern within their communities. Responses are voluntary. No questions of a “sensitive” nature are asked.

II. Data

Title: Study on Uranium and other trace metals in Bedrock Wells in South-East New Hampshire.

OMB Control Number: 1028-NEW NHWELL.

Affected Public: Individual and household residents.

Respondent's Obligation: Voluntary.

Frequency of Collection: One time collection.

Estimated Number and Description of Respondents: 350 private well owners in south-eastern New Hampshire.

Estimated Number of Annual Responses: 350.

Estimated Time per Response: We estimate that the burden for this collection to be approximately 10 minutes to take the survey and 10 minutes to locate and collect the water needed for the sample. The total estimate is approximately 20 minutes per response.

Estimated Annual Burden Hours: 117 hours.

Estimated Reporting and Recordkeeping “Non-Hour Cost” Burden: There are no “non-hour cost” burdens associated with this collection of information.

III. Request for Comments

On August 9, 2011 we published a Federal Register notice (76 FR 48882) announcing that we would submit this ICR to OMB for approval and soliciting comments. The comment period closed on October 11, 2011. We did not receive any comments in response to that notice. We again invite comments concerning this ICR on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology. Please note that the comments submitted in response to this notice are a matter of public record. Before including your address, phone number, email address, or other personal identifying information in your comment, you should be aware that your entire comment, including your personal identifying information, may be made publicly available at anytime. While you can ask OMB in your comment to withhold your personal identifying information from public review, we cannot guarantee that it will be done.

Dated: December 20, 2011.
Keith W. Robinson,
Director, USGS New Hampshire-Vermont Water Science Center.

[FR Doc. 2011-33392 Filed 12-28-11; 8:45 am]

BILLING CODE 4311-AM-P